DEPARTMENT OF STATE

[Public Notice: 10804]

Town Hall Meeting on Modernizing the Columbia River Treaty Regime

ACTION: Notice of meeting.

SUMMARY: The Department of State will hold a Town Hall meeting, co-hosted by the Northwest Power and Conservation Council (NWPCC) and the Idaho Office of the Governor, on July 18, 2019, in Boise, Idaho, to discuss the modernization of the Columbia River Treaty (CRT) regime.

DATES: The meeting will be held on July 18, 2019, from 5:30 p.m. to approximately 7:00 p.m., Mountain Time.

ADDRESSES: The meeting will be held in the Lincoln Auditorium at the Idaho State Capitol Building, 700 W Jefferson St., Boise, ID 83702.

FOR FURTHER INFORMATION CONTACT: Julien Katchinoff, Deputy Negotiator, Office of Canadian Affairs, ColumbiaRiverTreaty@state.gov, 202-647-2228.

SUPPLEMENTARY INFORMATION: This Town Hall is part of the Department's public engagement on the modernization of the CRT regime. (Per U.S.C. 2651a (and) 2656.) The meeting is open to the public, up to the capacity of the room. Requests for reasonable accommodation should be made to the email listed above, on or before July 8, 2019. The Department will consider requests made after that date, but might not be able to accommodate them. Information about the meeting, including call-in information, can be found at https://www.state.gov/p/wha/ci/ca/topics/c78892.htm or by emailing the email address listed above.

Mark W. Cullinane,
Director, Office of Canadian Affairs, Department of State.

[FR Doc. 2019-13692 Filed 6-26-19; 8:45 am]

BILLING CODE 4710-29-P